ENVIRONMENTAL PROTECTION AGENCY

[EPA-HQ-OAR-2016-0731; FRL-10025-85-OMS]

Information Collection Request Submitted to OMB for Review and Approval; Comment Request; EPA's Methane Challenge and Natural Gas STAR Programs (Renewal)

AGENCY: Environmental Protection Agency (EPA).

ACTION: Notice.

SUMMARY: The Environmental Protection Agency (EPA) has submitted an information collection request (ICR), EPA's Methane Challenge and Natural Gas STAR Programs (EPA ICR Number 2547.02, OMB Control Number 2060-0722) to the Office of Management and Budget (OMB) for review and approval in accordance with the Paperwork Reduction Act. This is a proposed revision of the ICR for the Methane Challenge Program, which is currently approved through August 31, 2021. This revision incorporates the data collection for the Natural Gas STAR Program (currently approved under OMB Control Number 2060-0328). Public comments were previously requested via the Federal Register on January 19, 2021 during a 60-day comment period. This notice allows for an additional 30 days for public comments. A fuller description of the ICR is given below, including its estimated burden and cost to the public. An agency may not conduct or sponsor, and a person is not required to respond to, a collection of information unless it displays a currently valid OMB control number.

DATES: Additional comments may be submitted on or before August 2, 2021.

ADDRESSES: Submit your comments, referencing Docket ID Number EPA-HQ-OAR-2016-0731, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Andrew Meluch, Office of Atmospheric Programs, Climate Change Division, (6207A), Environmental Protection Agency, 1200 Pennsylvania Ave. NW, Washington, DC 20460; telephone number: (202) 564-4762; email address: meluch.andrew@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Natural Gas STAR and Methane Challenge programs (“Gas STAR Programs”) are voluntary programs sponsored by the EPA that encourage oil and natural gas companies to adopt cost effective technologies and practices that improve operational efficiency and reduce methane emissions. Methane is the primary component of natural gas and a potent greenhouse gas. The Programs work with oil and natural gas companies in the production, gathering & boosting, processing, transmission & storage, and distribution segments to remove barriers that inhibit the implementation of technologies and practices that reduce methane emissions. The Programs effectively promote the adoption of emission reduction technologies and practices by helping partners evaluate Best Management Practices (BMPs) in the context of their current operations and implement them where cost-effective. Implementation of the Programs' BMPs saves participants money, improves operational efficiency, and enhances the protection of the environment. This action will combine the ICRs for the Methane Challenge and the Natural Gas STAR programs, which is expected to streamline partners' engagement with the programs and simplify communications about reporting.

Form Numbers:

• Natural Gas STAR Program—Partnership Agreement: EPA Form No. 5900-105

• Methane Challenge Program—Partnership Agreement for Best Management Practice Commitment Option: EPA Form No. 5900-412

• Methane Challenge Program—Partnership Agreement for ONE Future Emissions Intensity Commitment Option: EPA Form No. 5900-411

• Natural Gas STAR Program—Production Reporting Form: EPA Form No. 5900-104

• Natural Gas STAR Program—Transmission Reporting Form: EPA Form No. 5900-95

• Natural Gas STAR Program—Distribution Reporting Form: EPA Form No. 5900-99

• Natural Gas STAR Program—Gathering and Processing Reporting Form: EPA Form No. 5900-102

• Methane Challenge Program—BMP Commitment Option Reporting Form: EPA Form No. 5900-434

• Methane Challenge Program—ONE Future Commitment Option Reporting Form: EPA Form No. 5900-435

• Methane Challenge Program—Historical Actions Fact Sheet Template: EPA Form No. 5900-413

• Methane Challenge Program—Implementation Plan Template: EPA Form No. 5900-410

Respondents/affected entities: The Natural Gas STAR and Methane Challenge Programs are open to companies in the production segment of the oil industry, and to companies in the production, gathering & boosting, processing, transmission & storage, and distribution segments of the natural gas industry.

Respondent's obligation to respond: Voluntary.

Estimated number of respondents: 140 (54 Natural Gas STAR partners, 76 Methane Challenge partners and 10 vendors).

Frequency of response: Annual for partners and one time for vendors.

Total estimated burden: 1,126 hours (per year) for the Natural Gas STAR Program, plus 3,733 hours (per year) for the Methane Challenge Program. Burden is defined at 5 CFR 1320.03(b).

Total estimated cost: $130,865.00 (per year) for the Natural Gas STAR Program plus $357,862.00 (per year) for the Methane Challenge Program. There are no capital/start-up costs or O&M costs associated with this information collection.

Changes in the estimates: There is an increase of 1,675 hours (per year) in the estimated respondent burden compared with the ICR currently approved by OMB. This increase is due to modifying this ICR to include the addition of respondents from the Natural Gas STAR Program. However, the final total burden for the total of the two programs in this ICR renewal is less than the sum of the burdens for Natural Gas STAR and Methane Challenge Programs in their most recent ICRs.

Courtney Kerwin,
Director, Regulatory Support Division.

[FR Doc. 2021-14125 Filed 6-30-21; 8:45 am]

BILLING CODE 6560-50-P